SECURITIES AND EXCHANGE COMMISSION

[Release No. 34-75658; File No. SR-OCC-2014-21]

Self-Regulatory Organizations; The Options Clearing Corporation; Notice of Withdrawal of a Proposed Rule Change in Order To Permit OCC To Adjust the Size of Its Clearing Fund on an Intra-Month Basis

August 10, 2015.

On November 13, 2014, The Options Clearing Corporation (“OCC”) filed with the Securities and Exchange Commission (“Commission”), pursuant to Section 19(b)(1) of the Securities Exchange Act of 1934 (“Act”) ¹ and Rule 19b-4 thereunder,² a proposed rule change to delete the second sentence of OCC Rule 1001(a) in order to permit OCC to adjust the size of its clearing fund on an intra-month basis.³ On December 2, 2014, the proposed rule change was published in the Federal Register.⁴ On January 5, 2015, pursuant to Section 19(b)(2)(A)(ii)(II) of the Act,⁵ the Commission extended the time period to approve, disapprove, or institute proceedings to determine whether to disapprove the proposed rule change to March 2, 2015. On March 2, 2015, the Commission instituted proceedings under Section 19(b)(2)(B) of the Act to determine whether to approve or disapprove the proposed rule change.⁶ On May 19, 2015, pursuant to Section 19(b)(2)(B)(ii)(II)(bb),⁷ the Commission extended the time period for issuing an order to approve or disapprove the proposed rule change to July 30, 2015. The Commission received no comment letters regarding the proposed rule change.

¹ 15 U.S.C. 78s(b)(1).

² 17 CFR 204.19b-4.

³ See Securities Exchange Act Release No. 73685 (November 25, 2014) 78 FR 71479 (December 2, 2014) (SR-OCC-2014-21).

⁴ Id.

⁵ 15 U.S.C. 78s(b)(2)(A)(ii)(II).

⁶ See Securities Exchange Act Release No. 74406 (March 2, 2015), 80 FR 12232 (March 6, 2015) (SR-OCC-2014-21).

⁷ 15 U.S.C. 78s(b)(2)(B)(ii)(II)(bb).

On July 27, 2015, OCC withdrew the proposed rule change (SR-OCC-2014-21).

For the Commission, by the Division of Trading and Markets, pursuant to delegated authority.⁸
⁸ 17 CFR 200.30-3(a)(12).
Robert W. Errett,
Deputy Secretary.

[FR Doc. 2015-20009 Filed 8-13-15; 8:45 am]

BILLING CODE 8011-01-P